DEPARTMENT OF TRANSPORTATION

Federal Highway Administration

Notice of Final Federal Agency Actions on the Harrisonburg Southeast Connector Location Study in Virginia

AGENCY: Federal Highway Administration (FHWA), DOT.

ACTION: Notice of Limitation on Claims for Judicial Review of Actions by FHWA.

SUMMARY: This notice announces actions taken by the FHWA that are final within the meaning of 23 U.S.C. 139(l)(1). The actions relate to the Harrisonburg Southeast Connector Location Study in Rockingham County and the City of Harrisonburg, Virginia. Those actions grant licenses, permits, and approvals for the project.

DATES: By this notice, the FHWA is advising the public of final agency actions subject to 23 U.S.C. 139(l)(1). A claim seeking judicial review of the Federal agency actions on the highway project will be barred unless the claim is filed on or before August 11, 2008. If the Federal law that authorizes judicial review of a claim provides a time period of less than 180 days for filing such claim, then that shorter time period still applies.

FOR FURTHER INFORMATION CONTACT: Mr. John Simkins, Environmental Protection Specialist, Federal Highway Administration, 400 North 8th Street, Room 750, Richmond, Virginia 23219; telephone: (804) 775-33242, e-mail: John.Simkins@dot.gov. The FHWA Virginia Divisions Office's normal business hours are 7 a.m. to 5 p.m. (eastern time). For the Virginia Department of Transportation: Mr. Nicholas Nies, Virginia Department of Transportation, 1401 East Broad Street, Richmond, Virginia 23219; telephone: (804) 786-1092; e-mail: Nicholas.Nies@VDOT.Virginia.gov.

SUPPLEMENTARY INFORMATION: Notice is hereby given that FHWA has taken final agency actions subject to 23 U.S.C. 139(l)(1) by issuing licenses, permits, and approvals for the following highway project in the State of Virginia: Harrisonburg Southeast Connector Location Study. The study area for the project was generally between U.S. Route 11 and U.S. route 33 in Rockingham County southeast of the City of Harrisonburg. A range of alternatives to meet the transportation needs were evaluated, and FHWA selected Candidate Build Alternative 4 and Candidate Build Alternative 1 Modified. The actions taken by FHWA, and the laws under which such actions were taken, are described in the Final Environmental Impact Statement (FEIS) for the project, approved on October 18, 2007 (FHWA-VA-EIS-06-01-F), in the FHWA Record of Decision (ROD) issued on December 21, 2007, and in other documents in the FHWA or VDOT project records. The FEIS, ROD, and other project records are available by contacting FHWA or VDOT at the addresses provided above. The FHWA FEIS and ROD can also be viewed at the project Web site at http://www.virginiadot.org/projects/SEConnector.asp or at VDOT's offices.

This notice applies to all Federal agency decisions as of the issuance date of this notice and all laws under which such actions were taken, including by not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and section 1536]; Marine Mammal Protection Act [16 U.S.C. 1361]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act [25 U.S.C. 3001-3013].

6. Social and Economic: Civil Rights Act of 1964 [42 U.S.C. 2000d)-2000(d)(1)]; American Indian Religious Freedom Act [42 U.S.C. 1996]; Farmland Protection Policy Act [7 U.S.C. 4201-4209].

7. Executive Orders: E.O. 12898, Federal Actions to Address Environmental Justice in Minority Populations and Low Income Population; E.O. 13007, Indian Sacred Sites.

(Catalog of Federal Domestic Assistance Program Number 20.205, Highway Planning and Construction. The regulations implementing Executive Order 12372 regarding intergovernmental consultation on Federal programs and activities apply to this program.)

Authority: 23 U.S.C. 139(l)(1).

Issued on: February 5, 2008.
John Simkins,
Environmental Protection Specialist.

[FR Doc. 08-606 Filed 2-11-08; 8:45 am]

BILLING CODE 4910-RY-M